DEPARTMENT OF DEFENSE

Defense Logistics Agency

Notice of Amendment No. 003 to the Solicitation for Cooperative Agreement Applications (SCAA) Issued on May 5, 2009

AGENCY: Defense Logistics Agency, DOD.

ACTION: Amended solicitation for cost sharing cooperative agreement applications.

SUMMARY: The Defense Logistics Agency (DLA) executes the Department of Defense (DoD) Procurement Technical Assistance Program by awarding cost sharing cooperative agreements to assist states, local governments, private nonprofit organizations, tribal organizations and economic enterprises in establishing or maintaining procurement technical assistance centers (PTACs) pursuant to chapter 142 of title 10, United States Code. These centers help business firms market their goods and services to the DoD, other Federal agencies, and state and local governments. The Department of Defense Appropriations Act, 2010 (Pub. L. 111-118) provided funds for the continuance of the program in FY 2010, requiring DoD to make available not less than $3.6 million for applicants that meet the definition of 10 U.S.C. 2411(1)(D).

The Solicitation for Cooperative Agreement Applications (SCAA) issued May 5, 2009, is amended to allow acceptance of applications for new programs from eligible entities meeting the definition listed in Section II, paragraph 18.d. (Economic Enterprise) or paragraph 18.e. (Tribal Organization) of the SCAA in the event that funds become available for FY 2010 awards. Funding priority for FY 2010 will be given to exercising the options of the current cooperative agreements under the PTA program.

Currently, areas not covered are limited to fifty percent of the Bureau of Indian Affairs (BIA) Western Region and fifty percent of the BIA Great Plains Region. In the event that any option is not exercised, other service areas will become available. Note that service areas of existing programs whose options are exercised may not be duplicated. Although applications may be submitted for all service areas, applications will only be considered from eligible entities that propose programs to service areas currently not covered or areas that become available in the event that an option is not exercised. Applicants may be provided the opportunity to revise applications to cover service areas not included in initial applications submitted in response to this amendment. In any event, new program awards are contingent on FY 2010 funding becoming available.

The complete SCAA issued on May 5, 2009, and Amendment No. 003 issued July 27, 2010, are available at http://www.dla.mil/db/scaa.asp. Printed copies are not available for distribution. Applications must be submitted to DLA by 5 p.m., Eastern Time, on August 27, 2010. This opportunity was posted to Grants.gov on July 27, 2010. The Grants.gov Funding Opportunity Number for applications is: DLA-050509-002. Details on submitting an application are available in Section IV of the SCAA issued May 5, 2009.

FOR FURTHER INFORMATION CONTACT: DLA Office of Small Business Programs at (703) 767-1660.

Dated: August 2, 2010.
Mitchell S. Bryman,
Alternate OSD Federal Register Liaison Officer, Department of Defense.

[FR Doc. 2010-19277 Filed 8-4-10; 8:45 am]

BILLING CODE 5001-06-P